DEPARTMENT OF DEFENSE

Department of the Army

Notice of Availability—Record of Decision (ROD) for the Northern Training Complex With a Multi-Purpose Digital Training Range and Expanded Maneuver Areas, Drop Zones and Landing Zones at Fort Know, KY

AGENCY: U.S. Army Armor Center and Fort Knox, Department of the Army, DoD.

ACTION: Notice of availability.

SUMMARY: In compliance with the National Environmental Policy Act (NEPA), a ROD has been prepared for the construction and operation of a multi-purpose digital training range and a series of maneuver areas, drop zones and landing zones at Fort Knox. As soon as practical, the Army will begin to construct and operate the facilities described as the Preferred Alternative (Alternative 2). Although Alternative 2 has significant environmental impacts, all feasible measures will be used to mitigate the impacts. Alternative 2 is the only course of action that will provide a multi-functional war fighting capability to meet the Army's current and future training needs for soldiers in urban and restricted terrain combat scenarios and the new digital technology to support the M1A2 System Enhancement Package (SEP) Main Battle Tank. All practical mitigation measures are listed in the ROD.

ADDRESSES: Interested parties desiring to review the ROD may obtain a copy by contacting: Environmental Management Division, Directorate of Base Operations Support, U.S. Army Armor Center, ATTN: ATK-OSE (Mrs. Pollock), Building 1110, Room 216, Ironsides & 6th Avenue, Fort Knox, KY 40121-5000 or by sending electronic mail to: Linda.Pollock@knox.army.mil.

FOR FURTHER INFORMATION CONTACT: Mr. Al Freeland or Mrs. Gail Pollock, Environmental Management Division, Directorate of Base Operations Support, U.S. Army Armor Center, ATTN: ATZK-OSE, Building 1110, Room 216, Ironsides & 6th Avenue, Fort Knox, KY 40121-5000; by phone at (502) 624-3629 or by fax at (502) 624-3000.

SUPPLEMENTARY INFORMATION: The proposed project includes upgrading an existing training range to a modern digitized multi-purpose training range; construction of a series of landing zones, drop zones and maneuver areas and a grassed mock C130 landing strip; upgrade of existing roads; installation of fiber optics and other infrastructure improvements. The facilities would prepare the mounted force warriors for full spectrum combat operations. The proposed facilities would fully support new equipment training such as the M1A2 Main Battle Tank (MBT) System Enhancement Package (SEP), the M2A3 Bradley Fighting Vehicle, and the Stryker family of vehicles, as well as other enhanced vehicles requiring digital capability. These vehicles are equipped with a dynamic new computer system that uses digital technology to provide soldiers with on the move and instantaneous battlefield communications.

Public reading copies of the ROD are available at the following locations: Barr Library; 400 Quartermaster Street, Fort Knox, Kentucky 40121-5000 and Ridgeway Memorial Library, 127 North Walnut Street, P.O. Box 146, Shepherdsville, Kentucky 40165.

Dated: September 16, 2002.
Raymond J. Fatz,
Deputy Assistant Secretary of the Army (Environment, Safety and Occupational Health) OASA(I&E).

[FR Doc. 02-24033 Filed 9-20-02; 8:45 am]

BILLING CODE 3710-08-M